DEPARTMENT OF HEALTH AND HUMAN SERVICES

Centers for Disease Control and Prevention

[Docket Number NIOSH-144]

Notice of Request for Public To Submit Comments and Attend Meeting

AGENCY: National Institute for Occupational Safety and Health (NIOSH) of the Centers for Disease Control and Prevention (CDC), Department of Health and Human Services (HHS).

ACTION: Notice.

SUMMARY: The National Institute for Occupational Safety and Health (NIOSH) of the Centers for Disease Control and Prevention (CDC) announces the availability of the following notice of public meeting and draft document available for public comment entitled “NIOSH Criteria Document Update: Occupational Exposure to Hexavalent Chromium.” The document and instructions for submitting comments can be found at http://www.cdc.gov/niosh/review/public/144/. Comments may be provided to the NIOSH docket, as well as given orally at the following meeting.

Public Comment Period: October 15, 2008-January 31, 2009.

Public Meeting Time and Date: 9 a.m.-4 p.m. EST, January 22, 2009.

Place: Robert A. Taft Laboratories, Taft Auditorium, NIOSH, CDC, 4676 Columbia Parkway, Cincinnati, OH 45226-1998.

Purpose of Meeting: To discuss and obtain comments on the draft document, “NIOSH Criteria Document Update: Occupational Exposure to Hexavalent Chromium.” Special emphasis will be placed on discussion of the following:

1. Are the critical studies presented clearly and adequately?

2. Do all of the presented studies use scientifically valid methods and techniques?

3. Are there additional critical studies relevant to occupational exposure to hexavalent chromium compounds that should be included?

4. Does NIOSH have a transparent and sound basis for its revised Recommended Exposure Limit for hexavalent chromium compounds?

5. Is the new NIOSH policy of providing general exposure assessment recommendations instead of a specific Action Level scientifically justified?

6. Are the NIOSH recommendations for worker protection clear and justified?

7. Are there additional recommendations for worker protection that should be included?

Status: The forum will include scientists and representatives from various government agencies, industry, labor, and other stakeholders, and is open to the public, limited only by the space available. The meeting room accommodates 80 people. Due to limited space and security clearance requirements, notification of intent to attend the meeting must be made to the NIOSH Docket Office no later than January 7, 2009 for U.S. citizens, or no later than December 30, 2008 for non-U.S. citizens.* Persons wanting to provide oral comments at the meeting are requested to notify the NIOSH Docket Office no later than January 7, 2009 at (513) 533-8611 or by e-mail at nioshdocket@cdc.gov. Priority for attendance will be given to those providing oral comments. Other requests to attend the meeting will then be accommodated on a first-come basis. Unreserved walk-in attendees will not be admitted due to security clearance requirements.

Persons wanting to provide oral comments will be permitted up to 20 minutes. If additional time becomes available, presenters will be notified. Oral comments given at the meeting must also be submitted to the docket in writing in order to be considered by the Agency. Written comments will also be accepted at the meeting. Written comments may also be submitted to the NIOSH Docket Office, Robert A. Taft Laboratories, 4676 Columbia Parkway, MS C-34, Cincinnati, Ohio 45226, telephone (513) 533-8611. All material submitted to the Agency should reference Docket Number NIOSH-144 and must be submitted by January 31, 2009 to be considered by the Agency. All electronic comments should be formatted as Microsoft Word. Please make reference to Docket Number NIOSH-144.

All information received in response to this notice will be available for public examination and copying at the NIOSH Docket Office, Room 111, 4676 Columbia Parkway, Cincinnati, Ohio 45226.

*Non-U.S. Citizens: Because of CDC Security Regulations, any non-U.S. citizen wishing to attend this meeting must provide the following information in writing to the NIOSH Docket Officer at the address below no later than December 30, 2008. This information will be transmitted to the CDC Security Office for approval. Visitors will be notified as soon as approval has been obtained.

1. Name:

2. Gender:

3. Date of Birth:

4. Place of Birth (city, province, state, country):

5. Citizenship:

6. Passport Number:

7. Date of Passport Issue:

8. Date of Passport Expiration:

9. Type of Visa:

10. U.S. Naturalization Number (if a naturalized citizen)

11. U.S. Naturalization Date (if a naturalized citizen)

12. Visitor's Organization:

13. Organization Address:

14. Organization Telephone Number:

15. Visitor's Position/Title within the Organization:

Background: This draft NIOSH document provides a review of the available literature and provides an update of NIOSH policies on occupational exposure to hexavalent chromium compounds including an assessment of: (1) Critical animal, human, and in vitro studies on occupational exposure to hexavalent chromium; (2) relevant quantitative risk assessments about occupational exposure to hexavalent chromium; (3) appropriate methods for sampling and analysis of hexavalent chromium compounds in the workplace; (4) basis for the NIOSH revised Recommended Exposure Limit for hexavalent chromium compounds; and (5) other NIOSH recommendations for protecting workers from occupational exposure to hexavalent chromium. This guidance document does not have the force and effect of law.

The purpose of the public review of the draft document and public meeting is to obtain public comments assessing whether: (1) This hazard identification is an accurate reflection of the available scientific studies; (2) the NIOSH recommendations for protecting workers from occupational exposure to hexavalent chromium compounds are appropriate and justified, and (3) NIOSH has a transparent and scientific basis for its revised Recommended Exposure Limit for hexavalent chromium compounds.

Contact Persons For Technical Information: Kathleen MacMahon, DVM; telephone (513) 533-8547; Mailstop C-32, Robert A. Taft Laboratories, 4676 Columbia Parkway, Cincinnati, OH 45226-1998.

Reference: “NIOSH Criteria Document Update: Occupational Exposure to Hexavalent Chromium” (public review draft). Web address for this document: http://www.cdc.gov/niosh/review/public/144/.

Dated: October 9, 2008.
James D. Seligman,
Chief Information Officer, Centers for Disease Control and Prevention.

[FR Doc. E8-24728 Filed 10-16-08; 8:45 am]

BILLING CODE 4163-19-P